DEPARTMENT OF HOUSING AND URBAN DEVELOPMENT

[Docket No. FR-4907-15]

Notice of Proposed Information Collection: Comment Request; Application for FHA Insured Mortgage

AGENCY: Office of the Assistant Secretary for Housing, HUD.

ACTION: Notice.

SUMMARY: The proposed information collection requirement described below will be submitted to the Office of Management and Budget (OMB) for review, as required by the Paperwork Reduction Act. The Department is soliciting public comment on the subject proposal.

DATES: Comments Due Date: June 29, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8202, Washington, DC 20410.

FOR FURTHER INFORMATION CONTACT: Vance T. Morris, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This Noticing is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application for FHA Insured Mortgage.

OMB Control Number, if applicable: 2502-0059.

Description of the need for the information and proposed use: The documents requested are used to determine the eligibility of a loan application for FHA's mortgage insurance. Without these documents, HUD would have difficulty in determining the eligibility of a loan application and, thus, put in jeopardy the insurance fund. For the Informed Consumer Choice Notice, OMB control number 2502-0537, which is being incorporated into this PRA package, please see the following:

Section 225(a) of the Department of Veterans Affairs and Housing and Urban Development, and Independent Agencies Appropriations Act, 1999 (HUD FY 1999 Appropriations Act) (Pub. L. No. 105-76; 112 Sat. 2461, approved October 21, 1998) amended section 203(b)(2) to the National Housing Act to add at the end of this section the following language: “In conjunction with any loan insured under this section, an original lender shall provide to each prospective borrower a disclosure notice that provides a one page analysis of mortgage products offered by that lender and for which the borrower would qualify. This notice shall include: (i) a generic analysis comparing note rate (and associated interest payments), insurance premiums, and other costs and fees that would be due over the life of the loan insured by the Secretary under this subsection with note rates, insurance premiums (if applicable), and other costs and fees that would be expected to be due if the mortgagor obtained instead other mortgage products offered by the lender and for which the borrower would qualify with similar loan-to-value ratio in connection with a conventional mortgage * * * assuming prevailing interest rates; and (ii) a statement regarding when the mortgagor's requirement to pay mortgage insurance premiums for a mortgage insured under this section would terminate or a statement that the requirement will terminate only if the mortgage is refinanced, paid off, or otherwise terminated.”.

Agency form numbers, if applicable: HUD-92900-A, HUD 92900-B, HUD-92900-WS, HUD-92900-PUR, HUD-92561, HUD-92544.

Estimation of the total numbers of hours needed to prepare the information collection including number of respondents, frequency of response, and hours of response: Number of respondents is 1,000,000. Some of the 1,000,000 will have to complete additional responses determined by their unique circumstances, so that each respondent will provide from one to four different responses. The frequency of responses is on occasion. Total responses will be 1,034,000. The various responses require from .005 hours to as much as .50 hours each, and respondents who complete all four will average .99 hours. Total burden hours are 244,550.

Type of information collection | Number of respondents | Responses per respondent | Total annual responses | Hours per response | Total annual burden hours
HUD forms and Credit Report | 1,000,000 | 1 | 1,000,000 | .0235 | 235,025
Computations for buydowns | ¹ 20,000 | 1 | 20,000 | .250 | 5,000
Mortgagor Notice of Intent to Satisfy Occupancy Requirements | ¹ 5,000 | 1 | 5,000 | .005 | 25
Informed Consumer Choice Notice | ¹ 9,000 | 1 | 9,000 | .50 | 4,500
Total burden | 1,000,000 | From 1 to 4 | 1,034,000 | From .2350 to .9900 | 244,550
¹ Included in 1,000,000 above.

Status of the proposed information collection: Revision of a currently approved collection 2502-0059 that will expire July 31, 2004, and termination of OMB control no. 2502-0537.

Authority: The Paperwork Reduction Act of 1995, 44 U.S.C., chapter 35, as amended.

Dated: April 26, 2004.
John C. Weicher,
Assistant Secretary for Housing-Federal Housing Commissioner.

[FR Doc. 04-9777 Filed 4-29-04; 8:45 am]

BILLING CODE 4210-27-M